ENVIRONMENTAL PROTECTION AGENCY

[FRL-10164-02-R4]

Final National Pollutant Discharge Elimination System (NPDES) General Permit for New and Existing Sources and New Dischargers in the Offshore Subcategory of the Oil and Gas Extraction Category for the Eastern Portion of the Outer Continental Shelf (OCS) of the Gulf of Mexico

AGENCY: Environmental Protection Agency (EPA).

ACTION: Notice of final NPDES general permit issuance.

SUMMARY: The Director of the Water Division, Environmental Protection Agency (EPA) Region 4 provides in this notice the reissuing of the National Pollutant Discharge Elimination System (NPDES) General Permit (GEG460000) for existing and new sources and new dischargers in the Offshore Subcategory of the Oil and Gas Extraction Point Source Category located and discharging to the Outer Continental Shelf (OCS) of the Eastern Gulf of Mexico. The permit covers discharges from exploration, development, and production facilities located in, and discharging to, all federal waters of the eastern portion of the Gulf of Mexico seaward of the outer boundary of the territorial seas. It covers existing and new source facilities with operations located on federal leases occurring in water depths seaward of 200 meters, occurring offshore the coasts of Alabama and Florida. The western boundary of the coverage area is demarcated by Mobile and Visoca Knoll lease blocks located seaward of the outer boundary of the territorial seas from the coasts of Mississippi and Alabama. Individual permits will be issued for operating facilities on lease blocks traversed by and shoreward of the 200-meter water depth.

DATES: This permit will be issued on the date it is published in the Federal Register and become effective at the end of the 30 day notice.

FOR FURTHER INFORMATION CONTACT: Ms. Bridget Staples, EPA Region 4, WD, NPDES Section, by telephone at (404) 562-9783 or by email at Staples.Bridget@epa.gov.

SUPPLEMENTARY INFORMATION: On June 9, 2023, EPA published in the Federal Register the proposed draft permit and supporting documents (88 FR 37878) entitled Notice of Draft National Pollutant Discharge Elimination System (NPDES) General Permit for the Eastern Portion of the Outer Continental Shelf (OCS) of the Gulf of Mexico (GEG460000) and subsequently an extension of the comment period to 90 total days (see 88 FR 43562). A copy of the Region's final permit, responses to comments document and other supporting documentation may be found online at http://www.epa.gov/npdes-permits/eastern-gulf-mexico-offshore-oil-gas-npdes-permits.

Kathlene Butler,
Director, Water Division.

[FR Doc. 2024-04575 Filed 3-4-24; 8:45 am]

BILLING CODE 6560-50-P